DEPARTMENT OF COMMERCE

National Institute of Standards and Technology

Proposed Information Collection; Comment Request; Malcolm Baldrige National Quality Award and Examiner Applications

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 1, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to Dawn Bailey, Baldrige Performance Excellence Program, 100 Bureau Drive, Stop 1020, National Institute of Standards and Technology, Gaithersburg, Maryland 20899-1020; telephone (301) 975-3074, fax (301) 948-3716, email dawn.bailey@nist.gov.

SUPPLEMENTARY INFORMATION:

I. Abstract

The Department of Commerce is responsible for the Baldrige Performance Excellence Program (BPEP) and the Malcolm Baldrige National Quality (BNQP) Award. Directly associated with this Award is the Board of Examiners, an integral volunteer workforce for BPEP (managed by NIST). An applicant for the MBNQA is required to perform two steps: (1) The applicant organization self-certifies that it meets eligibility requirements with an eligibility form; and (2) the applicant organization prepares and completes an application package. BPEP will assist with or offer advice on any questions or issues that the applicant may have concerning the eligibility or application process. With the help of the Board of Examiners, BEP will use the eligibility forms and application package to assess and provide feedback on the applicant's performance excellence practices. These practices could lead to a MBNQA awarded by the President of the United States or his delegate.

The application to be a member of the Board of Examiners is a one-step, online process. Each year, BPEP recruits highly skilled experts in the fields of manufacturing, service, small business, health care, education, and nonprofit, the six Award eligibility categories, to evaluate the applications that BPEP receives. Examiners serve for a one-year term; participation on the board is entirely voluntary.

II. Method of Collection

Award applicants must comply in writing according to the Eligibility Certification Form and Baldrige Award Application Form available at http://www.nist.gov/baldrige/enter/how_to_apply.cfm. The application for the Board of Examiners can be found at http://www.nist.gov/balrige/examiners/index.cfm and submitted electronically.

III. Data

OMB Control Number: 0693-0006.

Form Number: None.

Type of Review: Regular submission (extension of a current information collection).

Affected Public: Business or other for-profit organizations, health care, education, or other non-profit institutions; or individuals or households.

Estimated Number of Respondents: 850 (50 Applicants for the MBNQA; 800 Applicants for the Board of Examiners).

Estimated Time per Response: 74 hours for applications for the MBNQA, and 1 hour for applications for the Board of Examiners.

Estimated Total Annual Burden Hours: 8,200.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 21, 2012.
Gwellnar Banks,
Management Analyst, Office of the Chief Information Officer.

[FR Doc. 2012-31227 Filed 12-28-12; 8:45 am]

BILLING CODE 3510-13-P